DEPARTMENT OF TRANSPORTATION

Federal Railroad Administration

Notice of Final Federal Agency Actions on Proposed Rail Transportation Projects

AGENCY: Federal Railroad Administration (FRA), Department of Transportation (DOT).

ACTION: Notice.

SUMMARY: This notice announces final environmental actions taken by the Federal Railroad Administration (FRA) that are final for the Western Rail Yard Infrastructure Project, Livingston Avenue Bridge Replacement Project, and the Aberdeen Carolina & Western Railway Congestion Mitigation Project. The purpose of this notice is to advise the public of the time limit to file any claims that may challenge these decisions and other Federal permits, licenses, and approvals for the Projects.

DATES: A claim seeking judicial review of Federal agency actions for the listed rail transportation projects will be barred unless the claim is filed on or before March 17, 2025. If the Federal law that authorizes judicial review of a claim provides a time period of less than two years for filing such claim, then the shorter time period applies.

FOR FURTHER INFORMATION CONTACT: For further information related to this notice, please contact Pauline Munz, Attorney-Adviser, Office of the Chief Counsel, 1200 New Jersey Avenue SE, W31-228, Washington, DC 20590; telephone: 202-493-0558 or email: pauline.munz@dot.gov.

SUPPLEMENTARY INFORMATION: Notice is given that FRA has taken final agency action(s) by issuing certain approvals for the rail transportation project(s) listed below. The actions on the projects, as well as the laws under which such actions were taken, are described in the documentation issued for the projects to comply with the National Environmental Policy Act (NEPA) and related environmental laws.

This notice applies to all Federal agency decisions on the listed project(s) as of the issuance date of this notice and all Federal laws under which such actions were taken, including but not limited to, NEPA (42 U.S.C. 4321-4375); section 4(f) (49 U.S.C. 303); section 106 of the National Historic Preservation Act (54 U.S.C. 306108); the Clean Air Act (42 U.S.C. 7401-7671q); the Endangered Species Act (16 U.S.C. 1531-1544); the Clean Water Act (33 U.S.C. 1251) and relevant Executive Orders (E.O.) including, E.O. 11990 Protection of Wetlands, E.O. 11988 Floodplain Management, E.O. 13112 Invasive Species, E.O. Federal Actions to Address Environmental Justice in Minority Populations and Low Income Populations, and E.O. 13175 Consultation and Coordination with Indian Tribal Governments. This notice does not, however, alter or extend a shorter limitation period that may exist for challenges of project decisions covered by this notice. The projects that are the subject of this notice follow.

Project name and location: Western Rail Yard Infrastructure Project, New York, New York.

Project Summary: The project consists of construction and operation of: (1) a structural Platform (Platform); and (2) a railroad right-of-way preservation Tunnel Encasement (Tunnel Encasement). The project will be located on the 13-acre Western Rail Yard site, located on the western half of the Metropolitan Transportation Authority (MTA) Long Island Rail Road (LIRR) John D. Caemmerer Yard (aka “Hudson Yards”). The approximately 9.8-acre Platform will span the Western Rail Yard and will include deep footings and a concrete slab to cover the active rail yard below, and reinforced building foundations. Platform construction also includes the modernization of LIRR support services for the yard, including new life-safety systems. The Tunnel Encasement in the Western Rail Yard will start at the western edge of Eleventh Avenue and extend underground to the northern edge of 30th Street.

FRA issued the draft environmental impact statement (EIS) on June 11, 2021, and the public comment period occurred between June 11, 2021 and July 26, 2021. FRA issued a combined Final EIS and Record of Decision on November 22, 2021.

Project name and location: Livingston Avenue Bridge Replacement Project, Albany and Rensselaer Counties, New York.

Project Summary: The project consists of replacing the Livingston Avenue Bridge, which spans the Hudson River between the cities of Albany and Rensselaer. The bridge was constructed in 1901-1903 on a substructure that dates to the 1860s and is nearing the end of its serviceable life. The project will completely replace the existing two-track Livingston Avenue Bridge with a new two-track movable bridge located parallel to, and approximately 50 feet south of, the existing bridge. The project also includes a direct connection from the current shared-use path to the Albany Skyway at the western terminus of the new bridge as well as construction of a portion of the proposed Rensselaer Riverfront Multi-Use Trail.

FRA issued the Draft Environmental Assessment (EA) for the Project on May 9, 2022, and the public comment period occurred between May 9 and June 15, 2022. FRA issued a Finding of No Significant Impact (FONSI) on October 31, 2022.

Project Name and location: Aberdeen Carolina & Western Railway Congestion Mitigation Project, North Carolina.

Project Summary: The project consists of the construction of siding, new storage track spurs, and a warehouse on a 66-acre property located along Allen Station Road Mint Hill at the Mint Hill location; new siding at the Midland location in Cabarrus County; storage track spurs at the Aberdeen Carolina & Western Railway Headquarters in Candor, North Carolina; and double-ended passing and storage siding at the Samarcand and Eagle Springs location in Moore County. The purpose of the project is to address congestion issues on the existing railroad.

FRA issued the Draft EA on July 29, 2022, and the public comment period occurred between July 29 and August 31, 2022. FRA issued a FONSI on September 30, 2022.

Project name and location: Camp Hall Industrial Corridor Project, Berkeley County, South Carolina.

Project Summary: The project consists of construction of a 22.7-mile freight rail corridor from the Camp Hall Commerce Park in Berkeley County, South Carolina, traveling north and east to a connection with the CSX Transportation, Inc. (CSXT) rail network near the Santee Cooper Cross Generating Station in Pineville, South Carolina. The purpose of the project is to construct and operate an industrial rail line that will connect an existing Class I rail line with the Camp Hall Commerce Park. The need for the rail line derives from development in the Camp Hall Commerce Park increasing the demand for rail service connecting the park with an existing Class I rail network, in a manner that is logistically feasible. The rail line will better serve the needs of future park tenants and industry for transportation, distribution, and logistics. In addition, the rail line will support infrastructure needs in South Carolina and Berkeley County and will help alleviate highway congestion involving large commercial trucks.

The Surface Transportation Board's Office of Environmental Analysis (OEA) and U.S. Army Corps of Engineers (USACE) jointly issued the Draft EA on November 30, 2018, with FRA serving as a cooperating agency, and the public comment period occurred between November 30 and December 30, 2018. A Final EA was issued by OEA and USACE on April 30, 2019. FRA issued a FONSI on January 3, 2023.

Project name and location: Atlanta to Charlotte Passenger Rail Corridor Investment Plan (PRCIP).

Project Summary: The project consists of developing the Atlanta to Charlotte portion of the Southeast High Speed Rail (SEHSR) Corridor through the Atlanta to Charlotte Passenger Rail Corridor Investment Plan. The plan identifies the Greenfield Corridor as the route for further study and development. The Greenfield Corridor is a 274-mile route that connects Charlotte, NC (Charlotte Gateway Station) and Atlanta, GA (Hartsfield/Jackson Atlanta International Airport-H-JAIA) and generally follows a new dedicated alignment between the Charlotte airport and northeast Atlanta.

The purpose of the PRCIP is to help determine future transportation investments of vital importance to all people who live, work, and travel in the Atlanta to Charlotte corridor.

FRA issued the draft Tier I environmental impact statement (EIS) on September 20, 2019, and the public comment period occurred between September 20, 2019 and November 4, 2019. FRA issued a combined Final EIS and Record of Decision on June 30, 2021.

Project name and location: Walk Bridge Replacement Project, Norwalk, Connecticut.

Project Summary: The project consists of removing the existing railroad bridge structure and replacing it with two side-by-side 240-foot open-deck through truss vertical lift spans across the Norwalk River as well as other improvements within and outside the New Haven Line right-of-way (ROW) such as track and ballast replacement and construction of a new retaining wall. Each new bridge span would have separate mechanical and electrical equipment and controls so that each span can work independently of the other, or in unison as needed. Additionally, the Project involves improvements outside the railroad ROW in the vicinity of the existing bridge, including construction of a pedestrian/bicycle trail connection to the Norwalk River Valley Trail's Harbor Loop Trail in East Norwalk.

In August 2016, the Federal Transit Administration (FTA), prepared an EA for the project. FRA was a Cooperating Agency in the development of the EA. FRA approved its own FONSI for the Project on April 28, 2022.

Authority: 49 U.S.C. 24201(a)(4) and 23 U.S.C. 139(l)(1).

Issued in Washington, DC.
Marlys Ann Osterhues,
Director, Office of Environmental Program Management.

[FR Doc. 2023-05431 Filed 3-16-23; 8:45 am]

BILLING CODE 4910-06-P